DEPARTMENT OF COMMERCE

International Trade Administration

Applications for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before (Insert date 20 days after publication in the Federal Register). Address written comments to Statutory Import Programs Staff, Room 2104, U.S. Department of Commerce, Washington, DC 20230. Applications may be examined between 8:30 a.m. and 5 p.m. at the U.S. Department of Commerce in Room 2104.

Docket Number: 08-026. Applicant: Howard Hughes Medical Institute, 4000 Jones Bridge Rd., Chevy Chase, MD 20815. Instrument: Electron Microscope, Model Tecnai Spirit T12BT. Manufacturer: FEI Company, Czech Republic. Intended Use: The instrument is intended to be used to examine all or portions of vertebrate and invertebrate organisms. The instrument will be a means of examination of samples for a wide range of studies. The overall objective is to examine these structures at high resolution. Application accepted by Commissioner of Customs: May 16, 2008.

Dated: June 5, 2008.
Faye Robinson,
Director, Statutory Import Programs Staff.

[FR Doc. E8-13393 Filed 6-17-08; 8:45 am]

BILLING CODE 3510-DS-M